DEPARTMENT OF THE INTERIOR

Bureau of Land Management

[LLWO230.11100000.PH0000]

Notice of Correction to Notice of Intent To Prepare Environmental Impact Statements and Supplemental Environmental Impact Statements To Incorporate Greater Sage-grouse Conservation Measures Into Land Use Plans and Land Management Plans

AGENCY: Bureau of Land Management, Interior.

ACTION: Notice of Correction.

SUMMARY: The BLM published a Notice of Intent (NOI) on December 9, 2011 [76 FR 77008]. This Notice of Correction changes/clarifies the names of the regions that are coordinating the Environmental Impact Statements (EISs) and Supplemental EISs, extends the scoping period, and adds 11 Forest Service Land Management Plans (LMPs) to this process. The Eastern Region referred to in the previous NOI is now known as the Rocky Mountain Region; while the Western Region referred to in the previous NOI is now known as the Great Basin Region. The added Forest Service LMPs include:

• Rocky Mountain Region

○ Colorado—Routt National Forest Plan (1998)

○ Utah—Ashley National Forest Plan (1986)

○ Utah—Manti-Lasal National Forest Plan (1986)

○ Utah—Wasatch-Cache National Forest Plan (2003)

○ Wyoming—Bridger-Teton National Forest Plan (1990)

○ Wyoming—Medicine Bow National Forest Plan (2004)

• Great Basin Region

○ Idaho—Boise National Forest Plan (2003)

○ Idaho—Challis National Forest Plan (1987)

○ Idaho—Salmon National Forest Plan (1988)

○ Idaho—Targhee National Forest Plan (1997)

○ Montana—Beaverhead-Deerlodge National Forest Plan (2009)

DATES: This notice extends the public scoping process for the EISs/Supplemental EISs an additional 45 days. Comments on issues may now be submitted in writing until March 23, 2012. Although the majority of all scoping meetings have been completed the date(s) and location(s) of any additional scoping meetings will be announced at least 15 days in advance through local media, newspapers and the BLM Web site for the Rocky Mountain Region at http://www.blm.gov/wo/st/en/prog/more/sagegrouse/eastern.html, and for the Great Basin Region at http://www.blm.gov/wo/st/en/prog/more/sagegrouse/western.html. Comments that are specific to a particular area, Resource Management Plan, or LMP should be identified as such. We will provide additional opportunities for public participation upon publication of the Draft EISs/SEISs.

FOR FURTHER INFORMATION CONTACT: For further information and/or to have your name added to our mailing list, contact Johanna Munson, Rocky Mountain Region Project Manager, telephone 307-775-6329; address 5353 Yellowstone Road, Cheyenne, WY 82009; email jmunson@blm.gov, or: Lauren Mermejo, Great Basin Region Project Manager, telephone 775-861-6400; address 1340 Financial Boulevard, Reno, NV 89520; email lmermejo@blm.gov.

Authority: 40 CFR 1501.7, 43 CFR 1610.2.

Edwin Roberson,
Assistant Director, Renewable Resources and Planning.

[FR Doc. 2012-3193 Filed 2-9-12; 8:45 am]

BILLING CODE 4310-84-P